DEPARTMENT OF HOMELAND SECURITY

Federal Emergency Management Agency

[Docket ID: FEMA-2016-0004; OMB No. 1660-0098]

Agency Information Collection Activities: Submission for OMB Review; Comment Request; Citizen Corps Council Registration

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before May 27, 2016.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This information collection previously published in the Federal Register on February 10, 2016, at 81 FR 7137 with a 60 day public comment period. No comments were received. The purpose of this notice is to notify the public that FEMA will submit the information collection abstracted below to the Office of Management and Budget for review and clearance.

Collection of Information

Title: Citizen Corps Council Registration.

Type of Information Collection: Revision of a currently approved information collection.

OMB Number: 1660-0098.

Form Titles and Numbers: FEMA Form 008-0-25, Citizen Corps Council Registration.

Abstract: FEMA's Community Preparedness Division would like to revise a currently approved collection for its registration of State, local, Tribal and territorial Councils and Community Emergency Response Teams (CERT). The registration process allows for new Councils to submit information on the Council or CERT to the State Citizen Corps Program Manager for approval. The revised registration process will allow for the collection of more valuable information and the tool is more user-friendly for Citizen Corps Councils and CERTs.

Affected Public: State, local or Tribal Government.

Estimated Number of Respondents: 3,900.

Estimated Total Annual Burden Hours: 3,900 hours.

Estimated Cost: The estimated annual cost to respondents for the hour burden is $93,249.00. There are no annual costs to respondents operations and maintenance costs for technical services. There is no annual start-up or capital costs. The cost to the Federal Government is $378,690.00.

Dated: April 20, 2016.
Richard W. Mattison,
Records Management Program Chief, Mission Support, Federal Emergency Management Agency, Department of Homeland Security.

[FR Doc. 2016-09843 Filed 4-26-16; 8:45 am]

BILLING CODE 9110-21-P